DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date:

September 25, 2007, 9 a.m.-4 p.m.

September 26, 2007, 10 a.m.-2:45 p.m.

Place: Bethesda Marriott Hotel, 5151 Pooks Hill Road, Bethesda, MD 20814, Phone: (301) 897-9400.

Status: Open.

Purpose: At this meeting the Committee will hear presentations and hold discussions on several health data policy topics. On the morning of the first day the Committee will hear updates from the Department, the Centers for Medicare and Medicaid Services, and the Office of the National Coordinator. They will also hear updates and status reports from Subcommittees and hold a discussion on secondary uses of health records data. This discussion will be continued in the afternoon and the Committee will hear an update from the Quality Workgroup.

On the morning of the second day the Committee will review its 2005-2006 report to Congress and take action on other products as needed. In the afternoon there will be a continuation of the discussion on secondary uses of health record data and the remainder of the time will be spent on Committee administrative operations.

The times shown above are for the full Committee meeting. Subcommittee breakout sessions are scheduled for late in the afternoon of the first day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: September 5, 2007.
James Scanlon,
Deputy Assistant Secretary for Planning and Evaluation (SDP), Office of the Assistant Secretary for Planning and Evaluation.

[FR Doc. 07-4508 Filed 9-12-07; 8:45 am]

BILLING CODE 4151-05-M